NATIONAL SCIENCE FOUNDATION

Sunshine Act Meetings

The National Science Board's (NSB) Committee on Science and Engineering Policy (SEP) hereby gives notice of the scheduling of a videoconference for the transaction of National Science Board business pursuant to the National Science Foundation Act and the Government in the Sunshine Act.

TIME AND DATE: Friday, May 19, 2023, from 12 p.m.-1:30 p.m. EDT.

PLACE: The meeting will be held by videoconference through the National Science Foundation.

STATUS: Open.

MATTERS TO BE CONSIDERED: Chair's opening remarks; Detailed Narrative Outline for Indicators report: The State of U.S. Science and Engineering; Detailed Narrative Outline for Indicators report: R&D: U.S. and International Comparisons.

CONTACT PERSON FOR MORE INFORMATION: Point of contact for this meeting is Chris Blair, cblair@nsf.gov, 703/292-7000. Members of the public can observe this meeting through a YouTube livestream. The YouTube link will be available from the NSB meetings webpage— https://www.nsf.gov/nsb/meetings/index.jsp.

Christopher Blair,
Executive Assistant to the National Science Board Office.

[FR Doc. 2023-10415 Filed 5-11-23; 4:15 pm]

BILLING CODE 7555-01-P